DEPARTMENT OF THE INTERIOR

Fish and Wildlife Service

Marine Mammal Protection Act; Notice of Receipt of Petition To List the Alaska Stock of Sea Otters as Depleted

AGENCY: Fish and Wildlife Service (FWS), Interior.

ACTION: Receipt of petition.

SUMMARY: On August 21, 2001, the FWS received a petition under section 115 of the Marine Mammal Protection Act (MMPA) from the Center for Biological Diversity (CBD). The petition requests that FWS list the Alaska stock of sea otters as depleted under the MMPA. Within 60 days of the receipt of this petition, the FWS will publish a finding in the Federal Register as to whether the petition presents substantial information indicating that the petitioned action may be warranted.

FOR FURTHER INFORMATION CONTACT: The petition can be viewed online at http://www.r7.fws.gov/ea/sotter/Pet2.pdf. For a printed copy of the petition, contact: Douglas Burn, Wildlife Biologist, Marine Mammals Management Office, 1011 East Tudor Road, Anchorage, Alaska 99503, or telephone 907/786-3800 or facsimile 907/786-3816.

Authority: The authority for this action is the Marine Mammal Protection Act of 1972, as amended, 16 U.S.C. 1383b et seq.

Dated: August 17, 2001.
Gary Edwards,
Deputy Regional Director.

[FR Doc. 01-22346 Filed 9-5-01; 8:45 am]

BILLING CODE 4310-55-M